DEPARTMENT OF COMMERCE

Economic Development Administration

[Docket No. 991215339-4192-12]

National Technical Assistance, Training, Research, and Evaluation

AGENCY: Economic Development Administration (EDA), Department of Commerce (DOC).

ACTION: Notice and request for proposals.

SUMMARY: The mission of EDA is to lead the Federal economic development agenda by promoting innovation and competitiveness, preparing American regions for growth and success in the worldwide economy. Through the National Technical Assistance, Training, Research and Evaluation Program (NTA Program), EDA will work towards fulfilling its mission by funding research and technical assistance projects to promote competitiveness and innovation in urban and rural regions throughout the United States and its territories. By working in conjunction with its research partners, EDA will assist states, local governments and community based organizations to achieve their highest economic potential.

EDA is soliciting proposals to undertake research and provide technical assistance: (1) Addressing Competitiveness and Innovation in Rural U.S. Regions and Developing and Analyzing Rural Clusters of Innovation and Linking Rural and Metropolitan Regions; and (2) Information Dissemination to Practitioners Serving Distressed Areas.

This competitive solicitation request was previously published as part of a larger competitive solicitation in the Federal Register on April 30, 2004 (69 FR 23727), as well as on www.grants.gov and on EDA's Web site at www.eda.gov. EDA is re-soliciting proposals for the projects listed below due to the receipt of proposals that EDA, in its discretion, determined were non-responsive to the original solicitation and thus determined to be unsuitable for funding.

DATES: Proposals for funding under this program must be received by the EDA representative listed below no later than August 25, 2004 at 4 p.m. (e.d.t.). Proposals received after 4 p.m. (e.d.t.) on August 25, 2004, will not be considered for funding. By September 9, 2004, EDA will notify proponents whether they will be given further funding consideration and will invite successful proponents to submit a formal application. Projects should expect to receive funding by September 30, 2004; however, there is no guarantee that proponents invited by EDA to submit a formal application will receive funding. Proposals that were not recommended for funding will be retained by EDA for no longer than three years from the date of receipt.

ADDRESSES: Research and Evaluation proposals may be e-mailed to klim1@eda.doc.gov; National Technical Assistance proposals may be e-mailed to jmcnamee@eda.doc.gov. Alternatively, Research and Evaluation proposals may be hand-delivered to: W. Kent Lim, U.S. Department of Commerce, Economic Development Administration, Room 1874, 1401 Constitution Avenue, NW., Washington, DC 20230.

National Technical Assistance proposals may be hand-delivered to: Dr. John J. McNamee, U.S. Department of Commerce, Economic Development Administration, Room 1874, 1401 Constitution Avenue, NW., Washington, DC 20230; or

Research and Evaluation proposals may be mailed to: W. Kent Lim, U.S. Department of Commerce, Economic Development Administration, Room 7015, 1401 Constitution Avenue, NW., Washington, DC 20230;

National Technical Assistance proposals may be mailed to: Dr. John J. McNamee, U.S. Department of Commerce, Economic Development Administration, Room 7816, 1401 Constitution Avenue, NW., Washington, DC 20230.

Proponents are encouraged to submit proposals by e-mail. Proponents are advised that, due to mail security measures, EDA's receipt of mail sent via the United States Postal Service may be delayed for up to two weeks.

EDA will not accept proposals submitted by facsimile.

FOR FURTHER INFORMATION CONTACT: For a copy of the full Federal Funding Opportunity (FFO) announcement for this solicitation for competitive proposals, contact the appropriate EDA officer listed above. The text of the full FFO announcement can also be accessed at EDA's Web site: http://www.eda.gov and at http://www.grants.gov.

SUPPLEMENTARY INFORMATION:

Electronic Access: The full FFO announcement for this competitive solicitation with respect to the FY 2004 NTA Program is available through EDA's Web site, http://www.eda.gov, and through Grants.gov at http://www.grants.gov.

Funding Availability: EDA may use funds appropriated under Public Law 108-199 for the NTA Program. Funds in the amount of $805,000 are available for the NTA Program and funds in the amount of $495,000 have been appropriated for the Research and Evaluation Program for FY 2004. The funds made available for both Programs are available until expended. Awards under this competitive solicitation will be in the form of grants or cooperative agreements, with cooperative agreements being used where there is substantial collaboration between the EDA NTA Program staff and the recipient of an award. For example, a cooperative agreement will be used if there is substantial collaboration between EDA Program staff and the recipient of an information dissemination award in the selection of topics and presenters for satellite telecasts and regional policy forums.

Statutory Authority: Public Works and Economic Development Act of 1965, as amended (Pub. L. 89-136, 42 U.S.C. 3121 et seq.), and as further amended by the Economic Development Administration Reform Act of 1998 (Pub. L. 105-393) (PWEDA).

CFDA: 11.303 Economic Development—Technical Assistance; 11.312 Economic Development—Research and Evaluation.

Eligibility: Eligible applicants and eligible recipients of EDA financial assistance as defined in 13 CFR 300.2, including private individuals and for-profit organizations.

Cost Sharing Requirements: Ordinarily the amount of the EDA grant may not exceed 50 percent of the cost of the project. See 13 CFR 301.4(a), 307.11(c)(1). While cash contributions are preferred, the project's non-Federal share may consist of in-kind contributions, fairly evaluated by EDA, such as contributions of space, equipment and services. 13 CFR 301.4(a). In-kind contributions must be eligible project costs and meet applicable Federal cost principles and uniform administrative requirements. Id. EDA may supplement the costs of a project up to and including 100 percent of such project costs where the applicant is able to demonstrate that the project (i) is not feasible without EDA supplementation, and (ii) otherwise warrants EDA supplementation. 13 CFR 307.11(c)(1), (2). EDA may also supplement the costs of a project where the applicant is able to demonstrate that the applicant's overall economic situation precludes its contribution of the non-Federal share otherwise required for the project. 13 CFR 307.11(c)(1)(i), 301.4(b). Potential applicants should contact the appropriate EDA office to make this determination.

Intergovernmental Review: Applications under the NTA Program are not subject to Executive Order 12372, “Intergovernmental Review of Federal Programs.”

Evaluation and Selection Procedures: To apply for an award under this request, an eligible applicant must submit a proposal to EDA during the specified timeframe and in the manner provided by this solicitation. Proposals that do not meet all items required or that exceed the page limitations set forth in the FFO will be considered non-responsive and will not be considered by the review panel. Proposals that meet all the requirements will be evaluated by a review panel comprised of at least three members, all of whom will be full-time Federal employees. The panel first evaluates the proposals using (a) the general evaluation criteria set forth in 13 CFR 304.1 and 13 CFR 304.2, and (b) the supplemental evaluation criteria (Investment Policy Guidelines) set forth below. The Assistant Secretary of Commerce for Economic Development is the Selecting Official and will normally follow the recommendation of the review panel. However, the Assistant Secretary may not make any selection, or he may substitute one of the lower rated proposals, if he determines that it better meets the overall objectives of PWEDA.

A. Evaluation Criteria

Proposals that meet these threshold criteria will subsequently be evaluated by the review panel using the following criteria of approximate equal weight:

1. The quality of a proponent's response to deliverables set forth in Section II. above;

2. The ability of the proponent to successfully carry out the proposed activities; and

3. Cost to the Federal Government.

B. Supplemental Evaluation Criteria—Investment Policy Guidelines

EDA's mission is to lead the Federal economic development agenda by promoting innovation and competitiveness, preparing American regions for growth and success in the worldwide economy. Accordingly, all potential EDA investments will be analyzed using the following five Investment Policy Guidelines, which constitute supplemental evaluation criteria of approximate equal weight and which further define the criteria provided at 13 CFR 304.2:

1. Be market-based and results driven. An investment will capitalize on a region's competitive strengths and will positively move a regional economic indicator measured on EDA's Balanced Scorecard, such as: an increased number of higher-skill, higher-wage jobs; increased tax revenue; or increased private sector investment.

2. Have strong organizational leadership. An investment will have strong leadership, relevant project management experience, and a significant commitment of human resources talent to ensure a project's successful execution.

3. Advance productivity, innovation, and entrepreneurship. An investment will embrace the principles of entrepreneurship, enhance regional clusters, and leverage and link technology innovators and local universities to the private sector to create the conditions for greater productivity, innovation, and job creation.

4. Look beyond the immediate economic horizon, anticipate economic changes, and diversify the local and regional economy. An investment will be part of an overarching, long term comprehensive economic development strategy that enhances a region's success in achieving a rising standard of living by supporting existing industry clusters, developing emerging new clusters, or attracting new regional economic drivers.

5. Demonstrate a high degree of commitment by exhibiting: (a) High levels of local government or non-profit matching funds and private sector leverage; (b) clear and unified leadership and support by local elected officials; and (c) strong cooperation between the business sector, relevant regional partners and local, state and federal governments.

Announcement and Award Dates: By September 9, 2004, EDA will notify proponents whether they will be given further funding consideration and will invite successful proponents to submit a Form ED-900A, Research and National Technical Assistance, OMB Control Number 0610-0094. There is no guarantee that successful proponents will receive funding. The projects selected for funding should expect to receive funding by September 30, 2004. Proposals that were not recommended for funding will be retained by EDA for no longer than three years from the date of receipt.

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Form ED-900A has been approved by OMB under the control number 0610-0094. Notwithstanding any other provision of law, no person is required to respond to, nor shall any person be subject to a penalty for failure to comply with, a collection of information subject to the requirements of the PRA unless that collection of information displays a currently valid OMB control number.

Executive Order 12866

This notice has been determined not to be significant for purposes of Executive Order 12866.

Executive Order 13132 (Federalism)

It has been determined that this notice does not contain policies with Federalism implications as that term is defined in Executive Order 13132.

Administrative Procedure Act/ Regulatory Flexibility Act

Prior notice and an opportunity for public comments are not required by the Administrative Procedure Act or any other law for this notice concerning grants, benefits and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: July 20, 2004.
David Bearden,
Deputy Assistant Secretary for Economic Development.

[FR Doc. 04-16907 Filed 7-23-04; 8:45 am]

BILLING CODE 3510-24-P